ENVIRONMENTAL PROTECTION AGENCY

[FRL-8903-9]

Science Advisory Board Staff Office; Notification of a Public Teleconference of the Chartered Science Advisory Board

AGENCY: Environmental Protection Agency (EPA).

ACTION: Notice.

SUMMARY: The EPA Science Advisory Board (SAB) Staff Office announces a public teleconference of the Chartered Science Advisory Board to discuss EPA's research budget for Fiscal Year 2010.

DATES: The teleconference date is Thursday, May 28, 2009, from 1 p.m. to 4 p.m. (Eastern Time).

ADDRESSES: The teleconference will be conducted by telephone only.

FOR FURTHER INFORMATION CONTACT: Any member of the public wishing to obtain general information concerning this public teleconference should contact Mr. Thomas O. Miller, Designated Federal Officer (DFO), EPA Science Advisory Board (1400F), 1200 Pennsylvania Ave., NW, Washington, DC 20460; via telephone/voice mail: (202) 343-9982; fax: (202) 233-0643; or e-mail at miller.tom@epa.gov. General information concerning the EPA Science Advisory Board can be found on the SAB Web site at http://www.epa.gov/sab.

SUPPLEMENTARY INFORMATION: The SAB was established by 42 U.S.C. 4365 to provide independent scientific and technical advice to the Administrator on the technical basis for Agency positions and regulations. The SAB is a Federal advisory committee chartered under the Federal Advisory Committee Act (FACA), as amended, 5 U.S.C., App 2. The SAB will comply with the provisions of FACA and all appropriate SAB Staff Office procedural policies. Pursuant to the Federal Advisory Committee Act, Public Law 92-463, notice is hereby given that the EPA SAB will hold a public teleconference to discuss a draft letter on immediate EPA science needs.

Background: The SAB conducts a review of the EPA research budget annually and provides written comments to the EPA Administrator and testimony to the U.S. Congress on the adequacy of the EPA's research budget. The purpose of this teleconference will be to allow the SAB to discuss with Agency representatives the research priorities that are covered by the Fiscal Year 2010 research budget. Previous SAB budget advisories are on the SAB Web site at http://www.epa.gov/sab.

Availability of Meeting Materials: The agenda and other materials in support of this teleconference will be placed on the SAB Web site at http://www.epa.gov/sab in advance of this teleconference.

Procedures for Providing Public Input: Interested members of the public may submit relevant written or oral information for the SAB to consider on the topics included in this advisory activity. Oral Statements: In general, individuals or groups requesting an oral presentation at a public teleconference will be limited to three minutes per speaker, with no more than a total of one-half hour for all speakers. Interested parties should contact Mr. Miller, DFO, in writing (preferably via e-mail) at the contact information noted above, by May 21, 2009 to be placed on a list of public speakers for the teleconference. Written Statements: Written statements should be received in the SAB Staff Office by May 21, 2009 so that the information may be made available to the SAB Panel members for their consideration and placed on the SAB Web site for public information. Written statements should be supplied to the DFO in the following formats: one hard copy with original signature, and one electronic copy via e-mail (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Mr. Thomas Miller at (202) 343-9982, or miller.tom@epa.gov. To request accommodation of a disability, please contact Mr. Miller, preferably at least 10 days prior to the meeting, to give EPA as much time as possible to process your request.

Dated: May 7, 2009.
Vanessa T. Vu,
Director, EPA Science Advisory Board Staff Office.

[FR Doc. E9-11106 Filed 5-11-09; 8:45 am]

BILLING CODE 6560-50-P